DEPARTMENT OF HEALTH AND HUMAN SERVICES

Administration for Children and Families

Proposed Information Collection Activity; Comment Request

TITLE: Assessing the Implementation and Cost of High Quality Early Care and Education: Comparative Multi-Case Study.

OMB No.: New.

DESCRIPTION: The Administration for Children and Families (ACF) at the U.S. Department of Health and Human Services (HHS) seeks approval to collect new information to use in developing measures of the implementation and costs of high quality early care and education. This information collection is part of the project, Assessing the Implementation and Cost of High Quality Early Care and Education (ECE-ICHQ). The project's goal is to create a technically sound and feasible instrument that will provide consistent, systematic measures of the implementation and costs of education and care in center-based settings that serve children from birth to age 5. The resulting measures will inform research, policy, and practice by improving understanding of variations in what centers do to support quality, their associated costs, and how resources for ECE may be better aligned with expectations for quality.

The goals of the study are (1) to test and refine a mixed methods approach to identifying the implementation activities and costs of key functions within ECE centers and (2) to produce data for creating measures of implementation and costs. The study is currently collecting data through on-site visits to 24 centers as part of an initial phase of data collection under clearance, #0970-0355. This initial phase is meant to test data collection tools and methods, conduct cognitive interviewing to obtain feedback from respondents about the tools, and reduce and refine the tools for the next phase of data collection.

This request is focused on the next phase of data collection which will include 72 ECE centers in three states. The next phase will rely on remote data collection through electronic data collection tools, telephone interviews, and web-based surveys.

RESPONDENTS: ECE site administrators or center directors, program directors, education specialists, financial managers or accountants, teachers, and aides.

Annual Burden Estimates
Instrument | Number of respondents | Number of responses per respondent | Average burden hours per response | Total burden hours
Center recruitment call screener (to confirm selection criteria and gain participation; assumes outreach to 5 centers for every 1 center needed) | 360 | 1 | .33 | 119
Center engagement call script (to gather basic characteristics and plan steps for participation) | 72 | 1 | .75 | 54
Implementation interview protocol | 72 | 1 | 8 | 576
Electronic cost workbook | 72 | 1 | 6 | 432
Cost interview protocol | 72 | 1 | 2 | 144
Web-based time-use survey | 579 | 1 | .5 | 290

Estimated Total Annual Burden Hours: 1,615 hours.

ADDITIONAL INFORMATION: In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., 4th Floor, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Reports Clearance Officer.

[FR Doc. 2016-20386 Filed 8-24-16; 8:45 am]

BILLING CODE 4184-23-P